DEPARTMENT OF TRANSPORTATION

Federal Motor Carrier Safety Administration

[Docket No. FMCSA-2000-7721]

Notice of Request for Comments on Renewing the Approval for Two Information Collections: Request for Revocation of Authority Granted and Application for Certificate of Registration for Foreign Motor Carriers and Foreign Motor Private Carriers under 49 U.S.C. 13902(c)

AGENCY: Federal Motor Carrier Safety Administration (FMCSA), DOT.

ACTION: Notice and request for comments.

SUMMARY: The FMCSA is seeking public comments about our intent to request the Office of Management and Budget's (OMB) approval to renew two information collections. The first information collection, “Request for Revocation of Authority Granted,” notifies the FMCSA of a voluntary request by a motor carrier, freight forwarder, or property broker to amend or revoke its registration. The second information collection, “Application for Certificate of Registration for Foreign Motor Carriers and Foreign Motor Private Carriers under 49 U.S.C. 13902(c),” is used by Mexican motor carriers to apply for authority to operate across the border into the United States. The Paperwork Reduction Act requires the publication of this notice.

DATES: Please submit comments by November 6, 2000.

ADDRESSES: Mail or hand deliver comments to the U.S. Department of Transportation, Dockets Management Facility, Room PL-401, 400 Seventh Street, SW., Washington, DC 20590; telefax comments to 202/493-2251; or submit electronically at http://dmses.dot.gov/submit. Be sure to include the docket number appearing in this notice's heading. All comments received may be examined and copied at the above address from 9 a.m. to 5 p.m., e.t., Monday through Friday, except Federal holidays. Those desiring notification of receipt of comments must include a self-addressed, stamped postcard or you may print the acknowledgment page that appears after submitting comments electronically.

FOR FURTHER INFORMATION CONTACT: Marian Mills Lee, (202) 358-7051, Office of Enforcement and Compliance, Federal Motor Carrier Safety Administration, Department of Transportation, 400 Seventh St., SW, Washington, D.C., 20590. Office hours are from 7:30 a.m. to 5:00 p.m., e.t., Monday through Friday, except Federal holidays.

SUPPLEMENTARY INFORMATION: 1. Title: Request for Revocation of Authority Granted.

OMB Approval Number: 2126-0018.

Background: Title 49 of the United States Code (U.S.C.) authorizes the Secretary of Transportation to promulgate regulations governing the registration of for-hire motor carriers of regulated commodities (49 U.S.C. 13902), surface freight forwarders (49 U.S.C. 13903), and property brokers (49 U.S.C. 13904). The FMCSA carries out this registration program under authority delegated by the Secretary of Transportation. Under Title 49 U.S.C. 13905, each registration is effective from the date specified and remains in effect for such period as the Secretary of Transportation determines appropriate by regulation. Title 49 U.S.C. 13905(c) grants the Secretary the authority to amend or revoke a registration at the registrant's request. Form OCE-46 is used by transportation entities to voluntarily apply for revocation of their registration in whole or in part. The form requests the registrant's docket number, name and address, and the reasons for the revocation request.

Respondents: Motor carriers, freight forwarders, and brokers.

Average Burden per Response: 30 minutes.

Estimated Total Annual Burden: 500 hours (1,000 motor carriers x 30 minutes/60 minutes).

2. Title: Application for Certificate of Registration for Foreign Motor Carriers and Foreign Motor Private Carriers under 49 U.S.C. 13902(c).

OMB Approval Number: 2126-0019.

Background: Title 49 U.S.C. 13902(c) contains basic licensing procedures for registering foreign motor carriers to operate across the border into the United States. Title 49 CFR 368 contains related regulations. The FMCSA carries out this registration program under authority delegated by the Secretary of Transportation. Foreign motor carriers use Form OP-2 to apply for registration with the FMCSA. The form requests information on the motor carrier's location, form of business, ownership and control, and proposed operations.

Respondents: Foreign motor carriers.

Average Burden per Response: 2 hours.

Estimated Total Annual Burden: 2,000 hours (1,000 motor carriers x 2 hours).

Public Comments Invited

You are asked to comment on any aspect of these information collections, including: (1) the necessity and usefulness of the information collection for the FMCSA to meet its goal in reducing truck crashes; (2) the accuracy of the estimated burdens; (3) ways to enhance the quality, usefulness, and clarity of the collected information; and (4) ways to minimize the collection burden without reducing the quality of the collected information. The agency will summarize and/or include your comments in the request for OMB's clearance of these information collections.

Electronic Access and Filing

You may submit or retrieve comments online through the Docket Management System (DMS) at http://dmses.dot.gov/submit. Acceptable formats include: MS Word (versions 95 to 97), MS Word for Mac (versions 6 to 8), Rich Text File (RTF), American Standard Code Information Interchange (ASCII)(TXT), Portable Document Format (PDF), and WordPerfect (versions 7 to 8). The DMS is available 24 hours each day, 365 days each year. Electronic submission and retrieval help and guidelines are available under the help section of the DMS web site.

You may download an electronic copy of this document by using a computer, modem and suitable communications software from the Government Printing Office's Electronic Bulletin Board Service at (202) 512-1661. Internet users may reach the Office of the Federal Register's home page at http://www.nara.gov/fedreg and the Government Printing Office's web page at: http://www.access.gpo.gov/nara.

Authority: 23 U.S.C. 315; 44 U.S.C. 3506 and 49 CFR 1.73.

Issued on: August 29, 2000.
Clyde J. Hart, Jr.,
Acting Deputy Administrator, Federal Motor Carrier Safety Administration.

[FR Doc. 00-22626 Filed 9-1-00; 8:45 am]

BILLING CODE 4910-22-P